FEDERAL RETIREMENT THRIFT INVESTMENT BOARD

Sunshine Act Meetings

TIME AND DATE: 10:00 a.m. (TELEPHONIC Eastern Time) August 9, 2013.

PLACE: 10th Floor Board Meeting Room, 77 K Street NE., Washington, DC 20002.

STATUS: Parts will be open to the public and parts closed to the public

MATTERS TO BE CONSIDERED:

Parts Open to the Public

1. Approval of the Minutes of the July 22, 2013 Board Member Meeting.

2. Thrift Savings Plan Activity Reports by the Executive Director.

a. Monthly Participant Activity Report.

b. Monthly Investment Policy Report.

c. Legislative Report.

Parts Closed to the Public

1. Procurement.

CONTACT PERSON FOR MORE INFORMATION: Kimberly Weaver, Director, Office of External Affairs, (202) 942-1640.

Dated: August 1, 2013.
Megan Grumbine,
Acting Secretary, Federal Retirement Thrift Investment Board.

[FR Doc. 2013-18924 Filed 8-1-13; 4:15 pm]

BILLING CODE 6760-01-P